DEPARTMENT OF JUSTICE

Antitrust Division

Notice Pursuant to the National Cooperative Research and Production Act of 1993—Mobile Wireless Internet Forum

Notice is hereby given that, on May 25, 2000, pursuant to Section 6(a) of the National Cooperative Research and Production Act of 1993, 15 U.S.C. 4301 et seq. (“the Act”), Mobile Wireless Internet Forum has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are 3Com, Mount Prospect, IL; Alcatel, Antwerp, Belgium; Bell Atlantic, Bedminister, NJ; Celletra, Yoqne'am, Israel; Cisco Systems, San Jose, CA; Compaq Computer Corporation, Omaha, NE; Comverse Network Systems, Plano, TX; DDI, Tokyo, Japan; Ericsson, San Diego, CA; Fujitsu, Kawasaki, Japan; Hewlett Packard, Grenoble Cedex 9, France; Hyundai Electronics, Ichon, Kyounki-do, Republic of Korea; IBM Corporation, Somers, Republic of Korea; IP Mobile, Richardson, TX; LG Information & Communications, San Diego, CA; Lucent Technologies, Naperville, IL; Malibu Networks, El Dorado Hills, CA; Marconi Communications, Coventry, New Century Park, United Kingdom; Microsoft Communications, Redmond, WA; Mobile.com, Bellevue, WA; Motorola, Arlington Heights, IL; NARUS, Inc., Palo Alto, CA; NEC, Tokyo, Japan; Nokia Telecommunications, Irving, TX; Orange Pcs, Bradley Stoke, Bristol, United Kingdom; Portal Software, Cupertino, CA; Qualcomm, San Diego, CA; Samsung, Sungnam-Shi, Kyunggi-Do, Republic of Korea; Sharp Electronics Corporation, Nara, Japan; Siemens, Munich, Germany; SK TELECOM, Seoul, Republic of Korea; Solect, Toronto, Ontario, Canada; Sony SSA, San Diego, CA; Sprint, Overland Park, KS; Sun Microsystems, Palo Alto, CA; Synacom Technology, San Jose, CA; Tekelec, Morrisville, NC; Telefonica Moviles, Madrid, Spain; Telstra, Collingwood, Victoria, Australia; TIW, Montreal, Quebec, Canada; Toshiba Corporation, Convent Station, NJ; Vodafone AirTouch, Walnut Creek, CA; VoiceStream Wireless, Carlsbad, CA; Wind, Rome, Italy; Hitachi, Yokohama, Japan; Nortel Networks, Richardson, TX; and Telcordia Technologies, Morriston, NJ. The nature and objectives of the venture are to advance the adoption of a single open mobile wireless internet architecture that enables seamless integration of mobile wireless telephony and internet based services (voice, data, video, web, etc.), meeting the needs of network operators and Internet service providers, and is independent of the wireless access technology.

Constance K. Robinson,
Director of Operations, Antitrust Division.

[FR Doc. 00-20307 Filed 8-10-00; 8:45 am]

BILLING CODE 4410-11-M